DEPARTMENT OF COMMERCE

National Oceanic and Atmospheric Administration

RIN 06480-XH24

South Atlantic Fishery Management Council; Public Meetings; Modification of E-mail Addresses

AGENCY: National Marine Fisheries Service (NMFS), National Oceanic and Atmospheric Administration (NOAA), Commerce.

ACTION: Modification of e-mail addresses published in the document entitled “South Atlantic Fishery Management Council; Public Meetings”, which published in the Federal Register on April 17, 2008.

SUMMARY: The South Atlantic Fishery Management Council has modified email addresses for submitting public hearing comments for Amendment 16 to the Snapper Grouper Fishery Management Plan and for the Comprehensive Ecosystem Amendment. See SUPPLEMENTARY INFORMATION for specific details.

DATES: The public comment period for these amendments are open until 5 p.m., May 16, 2008.

ADDRESSES: Written comments should be sent to Bob Mahood, Executive Director, South Atlantic Fishery Management Council, 4055 Faber Place Drive, Suite 201, North Charleston SC 29405. Copies of the public hearing documents are available from Kim Iverson, South Atlantic Fishery Management Council, 4055 Faber Place Drive, Suite 201, North Charleston, SC 29405; telephone: (843)571-4366 or toll free at (866)SAFMC-10.

FOR FURTHER INFORMATION CONTACT: Kim Iverson, Public Information Officer, South Atlantic Fishery Management Council, 4055 Faber Place Drive, Suite 201, North Charleston, SC 29405; phone (843)571-4366 or toll free 866/SAFMC-10; FAX 843/769-4520; email: kim.iverson@safmc.net.

SUPPLEMENTARY INFORMATION: On April 17, 2008, NMFS published notification of public hearings and scoping meetings to be held from May 7 through May 15, 2008. The open period for written comments for these meetings ends at 5 p.m. on May 16, 2008. The e-mail addresses for comments regarding the Snapper Grouper Amendment 16 and the e-mail address for the Comprehensive Ecosystem Amendment were not listed correctly. The correct e-mail addresses are as follows:

For the Snapper Grouper Amendment 16, the e-mail address is SGAmend16@safmc.net

For the Comprehensive Ecosystem Amendment, the e-mail address is FEPCEA@safmc.net

All other information in the April 17, 2008, document (FR Doc. E8-8286) remains unchanged.

Dated: April 22, 2008.
William D. Chappell,
Acting Director, Office of Sustainable Fisheries, National Marine Fisheries Service.

[FR Doc. E8-9117 Filed 4-24-08; 8:45 am]

BILLING CODE 3510-22-S